DEPARTMENT OF THE INTERIOR

Fish and Wildlife Service

[FWS-R4-R-2008-N0231, 40136-1265-0000-S3]

Shell Keys National Wildlife Refuge, Iberia Parish, LA

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Shell Keys National Wildlife Refuge (NWR). In the final CCP, we describe how we will manage this refuge for the next 15 years.

ADDRESSES: A copy of the CCP may be obtained by writing to: Southwest Louisiana National Wildlife Refuge Complex, 1428 Highway 27, Bell City, LA 70630. The CCP may also be accessed and downloaded from the Service's Web site: http://southeast.fws.gov/planning.

FOR FURTHER INFORMATION CONTACT: Mr. Terry Delaine; Telephone: 337/762-3816; Fax: 337/762-3780; E-mail: terry_delaine@fws.gov.

SUPPLEMENTARY INFORMATION:

Introduction

With this notice, we finalize the CCP process for Shell Keys NWR. We started this process through a notice in the Federal Register on June 27, 2007 (72 FR 35255).

Shell Keys NWR, in Iberia Parish, Louisiana, is part of the Southwest Louisiana National Wildlife Refuge Complex (Complex), which also includes the Cameron Prairie, Lacassine, and Sabine Refuges. The 8-acre refuge is located in the offshore waters of the Louisiana Gulf Coast, west of the Atchafalaya River Delta and south of the Louisiana Department of Wildlife and Fisheries' Marsh Island Refuge. Shell Keys NWR was established on August 17, 1907, by Executive Order 682, to serve “* * * as a reserve and breeding ground for native birds.” The refuge is located within the Service's Lower Mississippi River Ecosystem in the Gulf of Mexico.

Shell Keys NWR is one of the oldest refuges in the National Wildlife Refuge System. Its boundary was and still is rather loosely described as “* * * a small group of unsurveyed islets located in the Gulf of Mexico about three and one-half miles south of Marsh Island, Louisiana, and approximately in latitude 29 degrees 26 minutes north, longitude 91 degrees 51 minutes west from Greenwich. * * *” The boundary of the refuge has been interpreted to be those areas in this vicinity that are above mean high tide.

Shell Keys NWR is a small group of islands that is subject to shell deposits and erosion, so the actual acreage above mean high water may be different at this time. How these islands change and move may affect ownership of that area lying above mean high water. Under certain circumstances, accreted areas above mean high water may belong to the State of Louisiana.

For a number of years, there has been only one islet at this location. This islet is composed almost entirely of shell fragments. It is extremely dynamic and builds or recedes with passing storms. Vegetation is almost entirely lacking. Species known to nest here include royal terns, sandwich terns, black skimmers, and laughing gulls. In addition, the islet is used at various times as a loafing area by white pelicans, brown pelicans, and various other species of terns and gulls. Hurricanes and storms have eroded the island to such an extent that no known nesting has occurred since 1992. Public access to the refuge is restricted due to its remoteness and sole accessibility by boat.

We announce our decision and the availability of the final CCP and FONSI for Shell Keys NWR in accordance with the National Environmental Policy Act (NEPA) (40 CFR 1506.6(b)) requirements. We completed a thorough analysis of impacts on the human environment, which we included in the Draft CCP/EA. The CCP will guide us in managing and administering Shell Keys NWR for the next 15 years. Alternative C is the foundation for the CCP.

The compatibility determinations for wildlife observation and photography and recreational fishing are also available within the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 160 copies of the Draft CCP/EA were made available for a 30-day public review period as announced in the Federal Register on June 14, 2008 (73 FR 33848). Seven comments on the Draft CCP/EA were received. The Draft CCP/EA identified and evaluated three alternatives for managing the refuge over a 15-year period.

Selected Alternative

After considering the comments we received and based on the professional judgment of the planning team, we selected Alternative C for implementation.

Alternative C will look into the feasibility of implementing large-scale habitat restoration efforts in cooperation with partners. We will enter into a new cooperative agreement with the Louisiana Department of Wildlife and Fisheries' Fur and Refuge Division, focusing on natural resource monitoring and restoration as appropriate. Partners are necessary to supply expertise and funding for the daunting task of restoration. Feasibility studies will be performed to determine the costs associated with rebuilding and re-establishing the shell islands, or portions of the islands. Restoration efforts will adapt to changing conditions as practices and techniques are assessed. The refuge will be open to recreational fishing and wildlife observation and photography. Because the refuge is remote and few guests actually visit the islands, outreach will center around providing information in combination with the Complex and on Web pages.

Authority: This notice is published under the authority of the National Wildlife Refuge System Improvement Act of 1997, Public Law 105-57.

Dated: October 6, 2008.
Sam D. Hamilton,
Regional Director.

[FR Doc. E8-27706 Filed 11-20-08; 8:45 am]

BILLING CODE 4310-55-P